DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing their United States citizenship (within the meaning of section 877(a) or 877A) with respect to whom the Secretary received information during the quarter ending December 31, 2009.

Last name | First name | Middle name/initials
ABA | CHRISTOPHER | WILLIAM
ABRAM | JOHNATHAN | JASON
ABRAM | RONALD |
ADAMS | STONE |
AHLQUIST | MAGNUS |
AHN | HYUN | KYUNG
AHN | KEUN | WHI
AKINS | ANTHONY | JEWELL
ALABISO | CAROLINA | UTA
ALAN | COOPER | THOMAS
ALLEN | CHRISTOPHER | DAVID
ALY-STAVRINOU | KATHERINE | LILLIAN
ANDERSEN | PAUL | EINAR
ANWAR | MELISSA | M. S.
ARMSTRONG | ERIK | BENTUNG
ARTZ | CHARLES | EDWARD
ASHER | HANNIBAL | DAVID
AU | ALICE | MIU HING
AU-YEUNG | BONNIE | PUI GEE
BAKER | KURT | ALEXANDER
BALDWIN | MARIA | D
BALFOUR | ALEXANDER | DAVID
BANERJEE | SOUMYA |
BAUMBERGER | YVES |
BELL | CHARLES | HENRY
BERKES | ROBERT | A
BERLIN | LOUISE |
BHATTAL | JASJIT | SINGH
BIEHLER | SANDRA | ANN
BINAL | MEHMET |
BINAL | YADIGAR |
BLACKBURN | JANICE | JOY
BLACKWOOD | GREGORY | DAVID
BLYSTAD | ANETTE | KRISTINE
BOH | CONNIE |
BOUKER | SLIM |
BOWLES | JANEANNE |
BRAND-JENSEN | KIMBERLY |
BRANDT | KATHLEEN | CAREY
BREM | ANDREW | P
BRENNINKMEYER | JOHANNES | AMADEO RAYMOND
BRIGGS | CURTIS | HANS
BRIND'AMOUR | LAWRENCE | GLENN
BRUNING | MARK |
BUCHER | CHRISTIAN | FREDERIK ALEXANDER
BUCKLEY | ARLENE |
CAMPBELL | VIRGINIA | ELLEN
CARR | RODERICK | JAMES
CHAN | CHARLES | TSUN-YAN
CHAN | CLARA | KIT YEE
CHAN | JOYCE | YUEN WAH
CHAN | KIN | HO
CHAN | MATTHEW | ANDREW
CHANG | LEWIS | HUNG YEN
CHANG | MING | CHE
CHANG | SARAH |
CHANG | SHENG | EN
CHEN | HENG-CHANG |
CHEN | JOHNSON |
CHEN | PATRICK |
CHENG | WEISHUN |
CHEUK | ALTHENA |
CHI | CHENG |
CHO | KYU | HO
CHO | WOL | YE
CHOI | JUNG | EUN
CHOI | SOO | KYUNG
CHOLAT | ROMAIN | JEAN-PIERRE
CHOU | KUANG-TAO |
CHRISTEN | JEROME | ROLAND FREDERIC
CHU | JASON |
CHU | NICHOLAS | YUK-UYI
CHU | SIMON | KWOK KWAN
CHUA | WILLIAM | YUAN-WEN
CHUANG | DAVID |
CHUE | RANDY | S
CHUN | RICHARD | KILWHAN
CHUNG | GEOFFREY | EUH-TAG
CHUNG | SUHNI |
CLEMENTS | YOKO | MORI
CO | DANIEL | GLENN
COHEN | DANIEL |
COHEN | SHARONNA |
COLLINS | THOMAS | MICHAEL
COOK | RICHARD | S
CORDANI | VIRGINIA |
CORNING | PATRICIA | MARY
CORTESE | MAURIZIO |
COSTELETOS | MARINOS |
COUCH | CAROLA | G
CURETON-LANE | ROSEMARY | ANNE
DA ROZA | ANDRE | MANUEL
DAGAN | NILY |
DAGAN | YACOV |
DAVID | CARY | RICHARD
DAVIDSON | FREDRICK | EICHI
DAVIS | WESLEY | THOMPSON
DE LETTENHOVE | GUY | KERVYN
DE RIS | THERON |
DE ROSEN | MICHEL |
DE ST MARS MANIERE | CHANTAL | DE POILLOUE
DEDEN | ANTHONY |
DEFARIA, JR | LYCIO |
DEGLERIS | MICHAEL | ANTONIOS
DEL CAMPO | LILIA | CASTELLANOS MARTIN
DEMORAGAS | JORGE | RAGUE
DENG | BEVERLY | GUO
DEY | ANITA |
DHALL | PRITI |
DI MONTEREALE | GIORGIO | ALLIATA
DISS | OLIVER |
DO NASCIMENTO | OSWALDO | L
DOCTER | CORNELIS |
DOERENBERG | FRANK |
DONG | JACQUELINE | MINGJIE
DOUGLAS | BRIAN | R.
D'SOUZA | SUSANNE | MARIE
DU | STERLING | SHYUN-DII
EACOTT | IRENA |
EACOTT | JOHN | GRAHAM
ENG | JENNIE | YU
ENNS | KIMBERLEY | D
ENNS | PETER | C
ERSKINE | DOUGLAS | GRAHAM
EU | KELVIN | HAN
FAGG | THOMAS | EARL
FARRELL | DOUGLAS |
FERGUSON | ANNA | YIP
FERLAINO | FRANK | RALPH
FERRARO | GARY | A.
FLOERSHEIM | ALEXANDER |
FOWLER | CLIVE |
FOWLER | LINDA | A.
FOX | GILLIAN | KAYE
FRENKEL | MARITZA | IVONNE
FUKUCHI | TORU |
FULLER | RUSSELL |
GADWAL | VIJAYALAXMI |
GAGNON | JAMES | ERNEST
GAPE | DEREK | GREGORY
GARDNER | GREGORY | JOHN
GARRIDO | LILIA | GUADALUPE
GAVIN | ROHAN |
GAVIRIA-KERVYN | GLORIA |
GEE | ANDREW | N
GEORG | JANET | DENISE
GERBER | PETER |
GERTENBACH | JACOBUS |
GERTENBACH | RIKA |
GHATALIA | DEVAN | S.
GIBBS | CHERYL | P.
GIBBS | FRANK | H.
GIORDANO | PASQUALE |
GOES | RODRIGO | S.
GONZALEZ-CARVAJAL | CAROLINA |
GOWEY | MICHELE | A
GRANT | LINDSAY | FITZ-PATRICK
GRAVES | STEWART | M.
GREINER, JR | FRED | LORANTON
GRIFFITH | JEFFREY | STEWART
GRIGGERS | JAMES | ELDON
GUERLAIN | CLAIRE | ARIANE
GUERLAIN | MARIE |
GUPTA | PRADEEP |
GURD | DAVID |
GURD | PAMELA |
HABERT | OIVIND KENNETH | LORENTZ
HAFNER | SUSAN | EMILY
HAIIM | HAIIM |
HALDANE | JONATHAN |
HALEEN | OLGA | ILIANA
HALEEN | PHILIP | BACHVAROV
HAN | CHIA-YAU |
HANSEN | MARC | CHRISTIAN
HARRISON, JR | JAMES | QUIGLEY
HART PAHR-IVERSEN | KAREN-HELENA | SABRINA
HASSAN | ABDELMONEM |
HAYDAY | ADRIAN | C
HAYDAY | SANDRA | ANN
HELBIG | INGO | M.
HELD | BETTINA | LENA
HENEGHAN | SHANE | BRIAN
HENFREY | ANTHONY | WILLIAM
HENTSCH | VIVIANNE |
HERY | ALAIN |
HERY | NADINE |
HILSAMER | LOUISE | BERTHA
HO | CHAN | KIN
HO | SARA | JANE
HONG | CAROL |
HONG | MIRAN |
HONG | SOON | BAE
HOROVITZ | ARTHUR | H
HOROVITZ | JUDITH |
HSU | TINA | MICHELLE
HU | RONG |
HUANG | BRAD |
HUANG | DAVIS |
HUANG | WEI | FEI-CHIN
HUBBARD | NORMAN | SQUIRES
HUFNAGEL | ILKA |
HUGENHOLTZ | PAUL | GABRIEL
HUNNISETT | ELEANOR | YOUNG
HUNTER | JOHN | W.
HUNTER | KARYNKA |
HUR | SAEHONG |
HUTCHINGS | GEORGE | FORD
IKEDA | MAKOTO |
ISSEN | RONALD | NATHANIEL
IU | LAWRENCE | PUI LEUNG
JANZEN | JUDITH | FAYE SCHULTZ
JEFFERS-QUAILEY | ALEXIS |
JEKER | VIRGINIA | LA TORRE
JENNY | ISABELLE |
JENNY | PHILLIPPE | D
JHANGIANI | DINA |
JHANGIANI | NARENDRA | KUMAR
JOHNSON | KENNETH |
JOHNSTON | PETER | BENJAMIN
JONES | DENIS | JAMES
JUN | KENNETH | SUNG HO
JUNG | DIANNE |
KAECH | ARIANNE |
KAMER | CIHAN |
KANG | JUCHAN |
KANG | JUNG | SOOK
KAPADIA | SALMA | I
KARCH | ROBERT | B
KATZSCHMANN | WILHELMINA |
KAVITA | YOGESH |
KEIR | GRANT | G.
KELJIK | JAMES | STEPHEN CHARLES
KEMP | SARAH |
KIDO | TAKEHIRO |
KIELHORN | DAISY | SIOK BEE
KIELHORN | JOHN | GRAHAM
KIM | EARNEST | UENSHIK
KIM | JUNE | SEOB MIKE
KIM | JUNG | SOOK
KIM | KENNETH | CHUNGSHIK
KIM | LEE | JUNG SOOK
KIM | YI | BI
KIM | YOUNG | SIK
KIRSCH | GORM | DAVID
KLESCH | JONATHAN | WILLIAM
KLESZCZ | JERSY |
KLURFAN | LILIANA | RUTH
KNASTER | ALEXANDER |
KO | STELLA | SEOHEE
KOHNO | KAZUNARI |
KUANG | DUANE | ZIPING
KURZ | ROLAND | P.
KWAK | SONYA | SONA
KWAN | KITTY |
KWOK | SIU KEI | A
LANE | TIMOTHY | DAVID
LANGHAUSER | GAVRIELE |
LANGHAUSER | MARC |
LANGHAUSER | UWE |
LAROSE | JOSEE | M. C.
LATORRE | EDUARDO | J
LAU | JENNIFER | PUI KAY
LAW | TIFFANY | CHEN-MEN
LAW-GREENE | NGAN | CHING
LEATHERMAN | SANDRA | LEA
LEE | CHING | AN
LEE | CHUL CHU |
LEE | CHYUARN | JIAUH
LEE | DOROTHY | LOIS
LEE | HAN-WOONG |
LEE | JENNIFER |
LEE | JULIET |
LEE | YOUNG | KON
LEE | YOUNG | SUN
LEUNG | LEWIS | K
LEVINE-COHEN | CHAYIM | JOSEPH
LI | LIN |
LIM | BAEK | IL ALAN
LIM | SIMON | WEI QUAN
LINDAUER | MILAN |
LINTON | ALEXANDER | JONATHAN
LIU | GUO | RUI
LIU | LISA |
LIU | WILLIAM |
LOUIS | MARIAS | SANJIV
LOVASICH | ROBERT | MICHAEL
LUEBKE | GUILLAUME | ROBERT
LUNG | JUSTIN | CHI YUEN
LUNTZ | DAVID | JOHN
MA | PING | YIU
MA | THEODORE | HENG
MAC DONALD | PYONG | SUN
MACHABA | ROBI |
MADERA | FRANCISCO | JAVIER
MAGOSHI | CHIKA |
MAGOSHI | HIDETAKA |
MAKOWSKY RASMUSSEN | WRAY | CHERYL
MALEK | KATARZYNA |
MANGALJI | FEREED |
MANI | SYLVIE |
MARTIN | JULIA |
MARTINE | VAN | DER WIELEN
MATSUMAE | TOSHIAKI |
MC ALISTER, JR | WALTER | ROBERT
MC BAIN | LISA | JANE
MC MASTER | RALPH | EDWARD
MCCARRON | TIMOTHY | JAMES
MCCONIGLEY | JOHN |
MEDRANO | MARCO |
MERCER | RANDALL | WAYNE
MEYER | MICHAEL | RAYMOND
MICHAELS | PATRICK |
MICZAIKA | CHRISTIAN | ANTON
MLADEK | ROBERT |
MOL | BITIA |
MORALES | LEONARDO | R
MOSCPNA | GABRIEL |
MOSER | URS |
MOSES | DIANE | M.
MOSES | NICHOLAS | H.
MOSS | DANIEL | M
MOUSSARIE | GERAUD |
MUELLER | CHRISTIAN | ROLAND
MUELLER-PIEFKOWSKI | ANDREA | ELIZABETH
MULFORD | IRENE | F
MUNTIANOY | IGOR |
MURDOCK JR | JOHN | THOMAS
NAHAWI | RASHA | SAYED A HAMID
NGUYEN | TRUONG | X.
NGUYEN-HOANG | ANH | TUYET
NIBLETT | ROBIN | C
NIEDERMAYER | ROBIN | W
NIMMONS | IAN |
NISHIMURA | KINKO |
NISHIMURA | TAKAO |
NOBLE | ROHINTON | A.
NORTHCOTE-GREEN | JAMES | EDWARD DOUGLAS
OCONNELL | ANN | LOUISE
OH | YOUNG | EUNG
OJJEH | AKRAM | KARIM
O'MARD | SYLVIA | NIAMATH
OU | CHEN | CHING
PACKER | TAMAR |
PAHLSSON | REX | HENRIK
PAHR-IVERSEN | KAREN-HELENA | SABRINA HART
PAK | CHIN | YONG
PAK | SUN | YUL
PAK | YONG | MAE
PARK | JANE | HYUN
PARK | JOON-KYU |
PARK | JUNG | HAE
PARK | YOUNG | SOON
PARONI | EZIO |
PASUMARTY | DEEPA |
PEPITO | GREGORIA | D
PEREIRE | AVDE | PHILIPPINE AMELIE
PEREON | YVES-MARIE |
PERNU | ESA |
PERRINE | JOHN | PAUL
PILAWSKII | ERIK | ALEXANDEROVICH
PILAWSKII | ERIK | ALEXANDEROVICH
PLANT | SHARON |
PORTNOW | LOREN |
POWERS | KELLY | KATE
PRICE | LENNOX | O'BRIEN
QU | JIAYI |
QUINZER | KAI | OTTO
QUINZER | SYLVIA | ANNA
RADEL | BENGT | A
RAMOCAN | SETH | GEORGE
RAY | BJORG | PATRICK
RENKEWITZ | JOHANNGEORG |
RENNERT | INES |
RENNERT | JENS |
RENNERT | LUTZ |
RICE | ANDREW | GLYNN
RICHARDS | SHAWN | KENNETH
RIEDL | WALTER |
RILEY | PATRICIA | CAROL
RINGDAL | REBBECA | MARIA
RITTER | ANNELIES | JOHANNA
ROBERTSEN | ERIC | C
ROCHLITZ | CAROLINE |
ROCHLITZ | MATAN |
RODRIGUEZ | CECILIA | TAMARA
ROH | HUI | HWA
ROLFE | DANIEL | WILLIAM
ROSS | MICHAEL | ALLAN
RUSTEBERG | SHEPHALI |
RYAN | STEPHEN | LAW
RYBICKI | MARIA |
SAADIEH | ANN | CHARLOTTE
SAFFER | MORRIS |
SAKAMOTO | JANICE | NAOMI
SAMUDA | MADELINE |
SAMUDA | RONALD | J.
SASAKI | MITSUGU |
SASAKURA | MASAYO |
SASAKURA | TAKAYUKI |
SASSOON | CHERIE | RACHEL
SCHMATZ | ANDREAS | JOACHIM KARL
SCHOCH | DANIEL | STEWART
SCHUH | WOLFGANG |
SCHUMER | ARTHUR | ALAN
SCHUMER | TRACY | ANN
SEAMAN | THOMAS | WYLIE
SEE | BYRON | JIAO-XIAN
SEIDEN | ROBERT | A.
SEITZ | SUSANNE | CAROL
SHAH | MONISH | S
SHILO | NAFTALI | SIMHA
SHIN | MINA |
SHIRREFF | IAN | ROBERT
SHU | YUAN-CHENG |
SHUM | ROSANNA | LOKE
SIKORSKI | CHRISTOPHER | MARK
SIMPSON | SARAH | ELIZABETH
SKORDOS | PANAYOTIS | A
SOKOLUK | VIVIANE |
SORIO | ROBERTO | ALESSANDRO
SPERRY | STEPHANIE | Y
SPINETTE | FRANCOIS | G.
STEEVES | SHELDON | B
STEILMAN | DORTHEA | MARIE
STONEBRIDGE | PETER |
STROMBERG | FRAN |
STROMBERG | MERVIN |
STRONGMAN | NANCY | HELEN
SU | PAUL | QI
SUISSA | ISRAEL |
SUK | MINSOO |
SUK | YOUNGHEE |
SUNG | YOUNG | JA
TAM | SALLY | BUN-KUEN
TANG | EUGENE | JUSTIN YUE CHUNG
TAY | ELIZABETH | MEI-LING
TAYLOR | ROBIN | LYNN
TELLEFSEN FLATEBO | RUTH | ESTHER
THADANI | ANAND |
THOMSON | PETER | STUART
THORBURN | JEAN | LILLIAN
TIPPETT | BRUCE |
TIPPETT | SUSAN |
TOEHL | LOUIS | MONTES
TOWNSEND | ERIK | SCOTT
TSANGRIDES | PHILIPPOS | ALEXANDROS
TSUTSUMI | MIE |
TUNG | LAWRENCE | BLAKE FENG-CHIH
UNDERWOOD | PATRICIA |
UNO | KEITA |
UTCHENIK | BERNARD | A
VALDI | MICHELLE | LIANG
VALLEJO | ISABEL |
VAN DER WIELEN | FRANCOIS |
VAN DRIEM | FELIX | HENRI
VANASSE | ROGER | J
VERGANZA II | MIGUEL | JUNIOR
VICHMAN | YAIR | A
VINOGRADOVA | TATJANA |
WADE | CHRISTINA |
WAI | FELICIA | SIKYIN
WALBURN | WILLIAM | THOMAS
WANG | ERCHIE |
WANG | SING |
WEBB | MATTHEW | WARREN
WEBB | SUZANNE | RENEE
WEBBER | WILLIAM | SCOTT
WEBER | MICHAEL | GERARD
WEE | RONALD | QI RONG
WERDMOLDER | DIEDERIK |
WERNER | ALEXANDER |
WESTERMAN | RICHARD | STEVEN
WESTPHAL | SANDRA | WANDA
WHITE | THOMAS | FRANK
WIESER | ANTHONY | A
WILD | ROLAND | OLIVER
WILLIAMS | SONG | CHA
WOLFERS | NANCY | A.
WOLL | SANDY | ANN
WONG | BILL | YIM-CHI
WONG | GODFREY | HIN-CHENK
WONG | LESTER | KIN-WAH
WONG | MIMY | HIU YING
WONG | WAI WAH | HELEN
WOO | JAMES |
WOOD | JOHN | CARTER
YAN | ANDREW | Y.
YANG | KIRK | Y-C
YANG | ROBERT | HSIANG
YANG | VERA | WEN-XIAN
YANG | WILLIAM | CHUNSU
YANG | YOUNG | AE
YANNOPOULOS | MINOS | G
YOON | ERNEST | JEONGHAN
YORKWILLIAMS | JOHN |
YOUNG | ANTHONY | PETER
YU | LILLIAN | CHI CHIA
ZAVATTI | GABRIELLA | ALANA
ZHANG | LI | PING
ZHU | LILI |
ZOMBANAKIS | ANDREAS |
ZU SAYN-WITTGENSTEIN BERLEBURG | SEBASTIAN | FREDRIC

Dated: February 5, 2010.
Angie Kaminski,
Manager Team 103, Examinations Operations—Philadelphia Compliance Services.

[FR Doc. 2010-3921 Filed 2-25-10; 8:45 am]

BILLING CODE 4830-01-P